DEPARTMENT OF AGRICULTURE

Forest Service

Oregon Coast Provincial Advisory Committee Meeting

AGENCY: Forest Service, USDA.

ACTION: Notice of meeting.

SUMMARY: The Oregon Coast Provincial Advisory Committee (PAC) will meet at the Hatfield Marine Sciences Center, Room 9, Marine Sciences Drive, Newport, OR, January 18, 2001. The meeting will begin at 9 a.m. and end at 3:30 p.m. the agenda will include: a Newport subcommittee report on water use, Payments to Counties Bill S1608/HR2389, Salem Water Program Strategy, discussion of 2001 agenda topics, public comments, and round-robin information sharing. A cold lunch buffet prepared by the Angell Job Corps will be available at 11:45 a.m. The cost is $4. A fifteen-minute open public forum is scheduled at 2 p.m. Interested citizens are encouraged to attend. The committee welcomes the publics' written comments on committee business at any time.

FOR FURTHER INFORMATION CONTACT: Joni Quarnstrom, Public Affairs Specialist, Siuslaw National Forest, 541/750-7075 or write to Forest Supervisor, Siuslaw National Forest, P.O. Box 1148, Corvallis, OR 97339.

Dated: December 29, 2000.
Mary Zuschlag,
Acting Forest Supervisor.

[FR Doc. 01-308 Filed 1-4-01; 8:45 am]

BILLING CODE 3410-10-M